DEPARTMENT OF THE INTERIOR

Bureau of Indian Affairs

Proposed Agency Information Collection Activities; Submission to OMB

AGENCY: Bureau of Indian Affairs, Interior.

ACTION: Notice.

SUMMARY: In compliance with the Paperwork Reduction Act, this notice announces that the Bureau of Indian Affairs is submitting an information collection to the Office of Management and Budget for renewal. The collection concerns Reindeer in Alaska, OMB Control #1076-0047. We are requesting a renewal of clearance and requesting comments on this information collection.

DATES: Written comments must be submitted on or before January 23, 2009.

ADDRESSES: You are requested to send any comments to the Desk Officer for the Department of the Interior at the Office of Management and Budget via facsimile at (202) 395-6566 or by e-mail at OIRA_DOCKET@omb.eop.gov. Please send a copy of comments to Warren Eastland, Wildlife Biologist, Bureau of Indian Affairs, P.O. Box 25520, Juneau, AK 99802. If you wish further communication, please send requests or questions via facsimile at (907) 586-7120 rather than via telephone. We cannot accept electronic submissions at this time.

FOR FURTHER INFORMATION CONTACT: Warren Eastland, Wildlife Biologist, Bureau of Indian Affairs, P.O. Box 25520, Juneau, AK 99802. Fax: (907) 586-7120.

SUPPLEMENTARY INFORMATION:

I. Abstract

The information collected under this program is used solely to monitor and regulate the possession and use of Alaskan reindeer by non-Natives in Alaska. The applicant must fill out a permit to get a reindeer for any purpose. The applicants are required to report on the status of the reindeer annually, or when a change occurs if earlier than the date for the annual report.

II. Request for Comments

A notice announcing our intent to renew this collection was published on April 8, 2008 (73 FR 19094). There were no comments received regarding that notice. We again invite comments on:

(a) Whether the collection of information is necessary for the proper performance of the functions of the agency, including whether the information will have practical utility;

(b) The accuracy of the agencies' estimate of the burden (including the hours and cost) of the proposed collection of information, including the validity of the methodology and assumption used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, or disclose or provide information to or for a Federal agency. This includes the time needed to review instructions; to develop, acquire, install and utilize technology and systems for the purpose of collecting, validating, and verifying information, processing and maintaining information, and disclosing and providing information, to search data sources, to complete and review the collection of information; and to transmit or otherwise disclose the information.

Before including your address, phone number, e-mail address or other personally identifiable information, be advised that your entire comment—including your personally identifiable information—may be made public at any time. While you may request that we withhold your personally identifiable information, we cannot guarantee that we will be able to do so. All comments from representatives of businesses or organizations will be made public in their entirety.

We may not conduct or sponsor, and you are not required to respond to, a collection of information unless there is a currently valid Office of Management and Budget Control Number.

OMB has up to 60 days to make a decision on the submission for renewal, but may make the decision after 30 days. Therefore, to receive the best consideration of your comments, you should submit them by the date listed in the DATES section.

III. Data

Title: Reindeer in Alaska, 25 CFR 243.

OMB control number: 1076-0047.

Type of Request: Extension.

Affected Public: Non-native persons who seek to obtain a reindeer.

Respondent's Obligation: Required to obtain or retain a benefit.

Total Number of Respondents: 21.

Total Number of Annual responses: 21.

Total Annual Burden hours: 3.

Dated: December 17, 2008.
Sanjeev “Sonny” Bhagowalia,
Chief Information Officer—Indian Affairs.

[FR Doc. E8-30556 Filed 12-23-08; 8:45 am]

BILLING CODE 4310-W7-P